SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: February 1-28, 2015.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net . Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. XTO Energy Incorporated, Pad ID: King Unit, ABR-20091225.R1, Shrewsbury Township, Lycoming County, Pa.; Consumptive Use of Up to 3.000 mgd; Approval Date: February 3, 2015.

2. XTO Energy Incorporated, Pad ID: Booth, ABR-20091226.R1, Shrewsbury Township, Lycoming County, Pa.; Consumptive Use of Up to 4.000 mgd; Approval Date: February 3, 2015.

3. Chesapeake Appalachia, LLC, Pad ID: Nickolyn, ABR-20100436.R1, Auburn Township, Susquehanna County, Pa.; Consumptive Use of Up to 7.500 mgd; Approval Date: February 3, 2015.

4. Chesapeake Appalachia, LLC, Pad ID: Potter, ABR-20100401.R1, Terry Township, Bradford County, Pa.; Consumptive Use of Up to 7.500 mgd; Approval Date: February 6, 2015.

5. Chesapeake Appalachia, LLC, Pad ID: Crawford, ABR-20100402.R1, Terry Township, Bradford County, Pa.; Consumptive Use of Up to 7.500 mgd; Approval Date: February 6, 2015.

6. Chesapeake Appalachia, LLC, Pad ID: Everbreeze, ABR-20100408.R1, Troy Township, Bradford County, Pa.; Consumptive Use of Up to 7.500 mgd; Approval Date: February 6, 2015.

7. Chesapeake Appalachia, LLC, Pad ID: Ballibay, ABR-20100409.R1, Herrick Township, Bradford County, Pa.; Consumptive Use of Up to 7.500 mgd; Approval Date: February 6, 2015.

8. Chesapeake Appalachia, LLC, Pad ID: Balduzzi, ABR-20100410.R1, Wyalusing Township, Bradford County, Pa.; Consumptive Use of Up to 7.500 mgd; Approval Date: February 6, 2015.

9. Chesapeake Appalachia, LLC, Pad ID: Alton, ABR-20100411.R1, Ulster Township, Bradford County, Pa.; Consumptive Use of Up to 7.500 mgd; Approval Date: February 6, 2015.

10. Chesapeake Appalachia, LLC, Pad ID: Frisbee, ABR-20100413.R1, Orwell Township, Bradford County, Pa.; Consumptive Use of Up to 7.500 mgd; Approval Date: February 6, 2015.

11. Chesapeake Appalachia, LLC, Pad ID: Blannard, ABR-20100414.R1, Standing Stone Township, Bradford County, Pa.; Consumptive Use of Up to 7.500 mgd; Approval Date: February 6, 2015.

12. Chesapeake Appalachia, LLC, Pad ID: Dunham, ABR-20100418.R1, Albany Township, Bradford County, Pa.; Consumptive Use of Up to 7.500 mgd; Approval Date: February 6, 2015.

13. Chesapeake Appalachia, LLC, Pad ID: Brackman, ABR-20100420.R1, Leroy Township, Bradford County, Pa.; Consumptive Use of Up to 7.500 mgd; Approval Date: February 6, 2015.

14. Chesapeake Appalachia, LLC, Pad ID: Koromlan, ABR-20100421.R1, Auburn Township, Susquehanna County, Pa.; Consumptive Use of Up to 7.500 mgd; Approval Date: February 6, 2015.

15. Chesapeake Appalachia, LLC, Pad ID: Johnson, ABR-20100422.R1, Monroe Township, Bradford County, Pa.; Consumptive Use of Up to 7.500 mgd; Approval Date: February 6, 2015.

16. Chesapeake Appalachia, LLC, Pad ID: Henry, ABR-20100423.R1, Albany Township, Bradford County, Pa.; Consumptive Use of Up to 7.500 mgd; Approval Date: February 6, 2015.

17. Chesapeake Appalachia, LLC, Pad ID: McGavin, ABR-20100435.R1, Auburn Township, Susquehanna County, Pa.; Consumptive Use of Up to 7.500 mgd; Approval Date: February 6, 2015.

18. Chesapeake Appalachia, LLC, Pad ID: Rexford, ABR-20100437.R1, Orwell Township, Bradford County, Pa.; Consumptive Use of Up to 7.500 mgd; Approval Date: February 6, 2015.

19. Chesapeake Appalachia, LLC, Pad ID: Amburke, ABR-20100438.R1, Auburn Township, Susquehanna County, Pa.; Consumptive Use of Up to 7.500 mgd; Approval Date: February 6, 2015.

20. Chesapeake Appalachia, LLC, Pad ID: Angie, ABR-20100441.R1, Auburn Township, Susquehanna County, Pa.; Consumptive Use of Up to 7.500 mgd; Approval Date: February 6, 2015.

21. Chesapeake Appalachia, LLC, Pad ID: Brink, ABR-20100449.R1, Herrick Township, Bradford County, Pa.; Consumptive Use of Up to 7.500 mgd; Approval Date: February 6, 2015.

22. Chesapeake Appalachia, LLC, Pad ID: Breezy, ABR-201007037.R1, Troy Township, Bradford County, Pa.; Consumptive Use of Up to 7.500 mgd; Approval Date: February 6, 2015.

23. Samson Exploration, LLC, Pad ID: Pardee & Curtin Lumber Co. C-05, ABR-20100116.R1, Shippen Township, Cameron County, Pa.; Consumptive Use of Up to 4.500 mgd; Approval Date: February 6, 2015.

24. Samson Exploration, LLC, Pad ID: Pardee & Curtin Lumber Co. C-07H, ABR-20100117.R1, Lumber Township, Cameron County, Pa.; Consumptive Use of Up to 4.500 mgd; Approval Date: February 6, 2015.

25. SWEPI, LP, Pad ID: Burt 518, ABR-20100221.R1, Richmond Township, Tioga County, Pa.; Consumptive Use of Up to 3.000 mgd; Approval Date: February 6, 2015.

26. SWEPI, LP, Pad ID: Ken-Ton 902, ABR-20100102.R1, West Branch Township, Potter County, Pa.; Consumptive Use of Up to 4.990 mgd; Approval Date: February 11, 2015.

27. SWEPI, LP, Pad ID: Mitchell A 903, ABR-20100152.R1, West Branch Township, Potter County, Pa.; Consumptive Use of Up to 4.990 mgd; Approval Date: February 11, 2015.

28. Chesapeake Appalachia, LLC, Pad ID: Yoder, ABR-20100419.R1, West Burlington Township, Bradford County, Pa.; Consumptive Use of Up to 7.500 mgd; Approval Date: February 13, 2015.

29. Chesapeake Appalachia, LLC, Pad ID: Holtan, ABR-20100446.R1, Auburn Township, Susquehanna County, Pa.; Consumptive Use of Up to 7.500 mgd; Approval Date: February 13, 2015.

30. Chesapeake Appalachia, LLC, Pad ID: Polomski, ABR-20100447.R1, Wyalusing Township, Bradford County, Pa.; Consumptive Use of Up to 7.500 mgd; Approval Date: February 13, 2015.

31. Chesapeake Appalachia, LLC, Pad ID: Champdale, ABR-20100450.R1, Tuscarora Township, Bradford County, Pa.; Consumptive Use of Up to 7.500 mgd; Approval Date: February 13, 2015.

32. Chesapeake Appalachia, LLC, Pad ID: Verex, ABR-20100507.R1, Auburn Township, Susquehanna County, Pa.; Consumptive Use of Up to 7.500 mgd; Approval Date: February 13, 2015.

33. Chesapeake Appalachia, LLC, Pad ID: Pauliny, ABR-20100508.R1, Terry Township, Bradford County, Pa.; Consumptive Use of Up to 7.500 mgd; Approval Date: February 13, 2015.

34. Chesapeake Appalachia, LLC, Pad ID: Coates, ABR-20100509.R1, Standing Stone Township, Bradford County, Pa.; Consumptive Use of Up to 7.500 mgd; Approval Date: February 13, 2015.

35. Chesapeake Appalachia, LLC, Pad ID: Fred, ABR-20100524.R1, Leroy Township, Bradford County, Pa.; Consumptive Use of Up to 7.500 mgd; Approval Date: February 13, 2015.

36. Chesapeake Appalachia, LLC, Pad ID: Moose, ABR-201007019.R1, Wysox Township, Bradford County, Pa.; Consumptive Use of Up to 7.500 mgd; Approval Date: February 13, 2015.

37. Chesapeake Appalachia, LLC, Pad ID: Katzenstein NEW, ABR-201007029.R1, Wysox Township, Bradford County, Pa.; Consumptive Use of Up to 7.500 mgd; Approval Date: February 13, 2015.

38. Chesapeake Appalachia, LLC, Pad ID: Jack, ABR-20100511.R1, Windham Township, Wyoming County, Pa.; Consumptive Use of Up to 7.500 mgd; Approval Date: February 16, 2015.

39. Chesapeake Appalachia, LLC, Pad ID: Janet, ABR-20100526.R1, Monroe Township, Bradford County, Pa.; Consumptive Use of Up to 7.500 mgd; Approval Date: February 16, 2015.

40. Chesapeake Appalachia, LLC, Pad ID: Treat, ABR-20100527.R1, Rome Township, Bradford County, Pa.; Consumptive Use of Up to 7.500 mgd; Approval Date: February 16, 2015.

41. Chesapeake Appalachia, LLC, Pad ID: Morse, ABR-20100528.R1, Leroy Township, Bradford County, Pa.; Consumptive Use of Up to 7.500 mgd; Approval Date: February 16, 2015.

42. Chesapeake Appalachia, LLC, Pad ID: Hayward New, ABR-20100535.R1, Rome Township, Bradford County, Pa.; Consumptive Use of Up to 7.500 mgd; Approval Date: February 16, 2015.

43. Chesapeake Appalachia, LLC, Pad ID: Cerca, ABR-20100538.R1, Wyalusing Township, Bradford County, Pa.; Consumptive Use of Up to 7.500 mgd; Approval Date: February 16, 2015.

44. Chesapeake Appalachia, LLC, Pad ID: Flash, ABR-20100540.R1, Rome Township, Bradford County, Pa.; Consumptive Use of Up to 7.500 mgd; Approval Date: February 16, 2015.

45. Chesapeake Appalachia, LLC, Pad ID: Feusner New, ABR-20100558.R1, Litchfield Township, Bradford County, Pa.; Consumptive Use of Up to 7.500 mgd; Approval Date: February 16, 2015.

46. Chesapeake Appalachia, LLC, Pad ID: Milochik, ABR-201007034.R1, Auburn Township, Susquehanna County, Pa.; Consumptive Use of Up to 7.500 mgd; Approval Date: February 16, 2015.

47. Chesapeake Appalachia, LLC, Pad ID: Bluegrass, ABR-201007103.R1, Rush Township, Susquehanna County, Pa.; Consumptive Use of Up to 7.500 mgd; Approval Date: February 16, 2015.

48. Chesapeake Appalachia, LLC, Pad ID: McConnell, ABR-20100525.R1, Overton Township, Bradford County, Pa.; Consumptive Use of Up to 7.500 mgd; Approval Date: February 20, 2015.

49. Chesapeake Appalachia, LLC, Pad ID: Madden, ABR-20100536.R1, Asylum Township, Bradford County, Pa.; Consumptive Use of Up to 7.500 mgd; Approval Date: February 20, 2015.

50. Chesapeake Appalachia, LLC, Pad ID: Rich, ABR-20100539.R1, Troy Township, Bradford County, Pa.; Consumptive Use of Up to 7.500 mgd; Approval Date: February 20, 2015.

51. Chesapeake Appalachia, LLC, Pad ID: Way, ABR-20100448.R1, Wyalusing Township, Bradford County, Pa.; Consumptive Use of Up to 7.500 mgd; Approval Date: February 20, 2015.

52. Chesapeake Appalachia, LLC, Pad ID: Matt Will Farms, ABR-20100544.R1, Troy Township, Bradford County, Pa.; Consumptive Use of Up to 7.500 mgd; Approval Date: February 20, 2015.

53. Chesapeake Appalachia, LLC, Pad ID: Kenyon, ABR-20100557.R1, Overton Township, Bradford County, Pa.; Consumptive Use of Up to 7.500 mgd; Approval Date: February 20, 2015.

54. Chesapeake Appalachia, LLC, Pad ID: McGraw, ABR-20100537.R1, Washington Township, Wyoming County, Pa.; Consumptive Use of Up to 7.500 mgd; Approval Date: February 24, 2015.

55. Chesapeake Appalachia, LLC, Pad ID: Forbes NEW, ABR-201007022.R1, Asylum Township, Bradford County, Pa.; Consumptive Use of Up to 7.500 mgd; Approval Date: February 24, 2015.

56. Chesapeake Appalachia, LLC, Pad ID: Tiffany, ABR-201007025.R1, Windham Township, Wyoming County, Pa.; Consumptive Use of Up to 7.500 mgd; Approval Date: February 24, 2015.

57. Chesapeake Appalachia, LLC, Pad ID: Robinson NEW, ABR-201007036.R1, Orwell Township, Bradford County, Pa.; Consumptive Use of Up to 7.500 mgd; Approval Date: February 24, 2015.

58. Chesapeake Appalachia, LLC, Pad ID: Pieszala, ABR-201007065.R1, Windham Township, Wyoming County, Pa.; Consumptive Use of Up to 7.500 mgd; Approval Date: February 24, 2015.

59. Chesapeake Appalachia, LLC, Pad ID: Delima, ABR-201007078.R1, Albany Township, Bradford County, Pa.; Consumptive Use of Up to 7.500 mgd; Approval Date: February 24, 2015.

60. Chesapeake Appalachia, LLC, Pad ID: Van DeMark, ABR-201007106.R1, Windham Township, Wyoming County, Pa.; Consumptive Use of Up to 7.500 mgd; Approval Date: February 24, 2015.

61. Chesapeake Appalachia, LLC, Pad ID: Petty, ABR-201007126.R1, Leroy Township, Bradford County, Pa.; Consumptive Use of Up to 7.500 mgd; Approval Date: February 24, 2015.

62. WPX Energy Appalachia, LLC, Pad ID: Blye Pad Site, ABR-20100204.R1, Middletown Township, Susquehanna County, Pa.; Consumptive Use of Up to 3.999 mgd; Approval Date: February 25, 2015.

63. EXCO Resources (PA), LLC, Pad ID: Patterson Drilling Pad #1, ABR-20100146.R1, Penn Township, Lycoming County, Pa.; Consumptive Use of Up to 5.000 mgd; Approval Date: February 25, 2015.

Authority: Pub. L. 91-575, 84 Stat. 1509 et seq., 18 CFR parts 806, 807, and 808.

Dated: April 20, 2015.
Stephanie L. Richardson,
Secretary to the Commission.

[FR Doc. 2015-09563 Filed 4-23-15; 8:45 am]

BILLING CODE 7040-01-P